DEPARTMENT OF ENERGY

Federal Energy Regulatory Commission

Combined Notice of Filings #1

Take notice that the Commission received the following electric corporate filings:

Docket Numbers: EC11-49-000

Applicants: Ameren Energy Generating Company

Description: Amendment to Application of Ameren Energy Generating Company, Filing supplements 203 application to include horizontal and vertical power analysis and requests shortened notice period of 10 days.

Filed Date: 04/12/2011

Accession Number: 20110412-5042

Comment Date: 5 p.m. Eastern Time on Friday April 29, 2011

Docket Numbers: EC11-69-000

Applicants: White Oak Energy Holdings LLC

Description: White Oak Energy Holdings LLC's Application for Approval under Section 203 of the Federal Power Act and Request for Expedited Action.

Filed Date: 04/18/2011

Accession Number: 20110418-5233

Comment Date: 5 p.m. Eastern Time on Monday, May 09, 2011

Take notice that the Commission received the following electric rate filings:

Docket Numbers: ER11-2256-001

Applicants: California Independent System Operator Corporation

Description: California Independent System Operator Corporation submits tariff filing per 35: 2011-04-18 CAISO's CPM Compliance Filing to be effective 4/1/2011.

Filed Date: 04/18/2011

Accession Number: 20110418-5229

Comment Date: 5 p.m. Eastern Time on Monday, May 09, 2011

Docket Numbers: ER11-3384-000

Applicants: PJM Interconnection, L.L.C.

Description: PJM Interconnection, L.L.C. submits tariff filing per 35: Compliance filing per Order issued in Docket No. EL08-47-006 to be effective 4/16/2011.

Filed Date: 04/18/2011

Accession Number: 20110418-5230

Comment Date: 5 p.m. Eastern Time on Monday, May 09, 2011

Take notice that the Commission received the following open access transmission tariff filings:

Docket Numbers: OA07-37-004

Applicants: E. ON U.S. LLC

Description: Penalty Distribution Compliance Filing of Louisville Gas & Electric Company, et. al.

Filed Date: 04/18/2011

Accession Number: 20110418-5200

Comment Date: 5 p.m. Eastern Time on Monday, May 09, 2011

Docket Numbers: OA07-39-007; OA08-71-007

Applicants: Xcel Energy Services Inc., Public Service Company of Colorado

Description: Public Service Company of Colorado's Annual Report of Penalty Assessments and Distributions in Accordance with Order Nos. 890 and 890-A.

Filed Date: 04/18/2011

Accession Number: 20110418-5204

Comment Date: 5 p.m. Eastern Time on Monday, May 09, 2011

Docket Numbers: OA11-7-000

Applicants: New York Independent System Operator, Inc.

Description: Annual Compliance Report of New York Independent System Operator, Inc. Regarding Unreserved Use and Late Study Penalties.

Filed Date: 04/18/2011

Accession Number: 20110418-5236

Comment Date: 5 p.m. Eastern Time on Monday, May 09, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: April 19, 2011.
Nathaniel J. Davis, Sr.,
Deputy Secretary.

[FR Doc. 2011-9977 Filed 4-25-11; 8:45 am]

BILLING CODE 6717-01-P